DEFENSE NUCLEAR FACILITIES SAFETY BOARD

Senior Executive Service Performance Review Board

AGENCY: Defense Nuclear Facilities Safety Board.

ACTION: Notice of Members of Senior Executive Service Performance Review Board.

SUMMARY: This notice announces the membership of the Defense Nuclear Facilities Safety Board (DNFSB) Senior Executive Service (SES) Performance Review Board (PRB).

DATES: These appointments are effective on November 7, 2025.

ADDRESSES: Send comments concerning this notice to: Defense Nuclear Facilities Safety Board, 625 Indiana Avenue NW, Suite 700, Washington, DC 20004-2001.

FOR FURTHER INFORMATION CONTACT: Candice Starks by telephone at (202) 360-9527, or by email at Candice.Starks@dnfsb.gov.

SUPPLEMENTARY INFORMATION: 5 U.S.C. 4314 (c)(1) through (5) requires each agency to establish, in accordance with regulations prescribed by the Office of Personnel Management, one or more performance review boards. The PRB shall review and evaluate the initial summary rating of the senior executives' performance, the executives' responses, and the higher-level officials' comments on the initial summary rating. In addition, the PRB will recommend executive performance bonuses and pay increases.

The DNFSB is a small, independent Federal agency; therefore, the members of the DNFSB SES Performance Review Board listed in this notice are drawn from the SES ranks of other agencies. The following persons comprise a standing roster to serve as members of the Defense Nuclear Facilities Safety Board SES Performance Review Board:

Marguerite C. Garrison, Deputy Inspector General for Administrative Investigations, U.S. Department of Defense, Office of the Inspector General

Theresa Perolini, Assistant Inspector General for Enterprise and External Affairs, U.S. Department of Education, Office of Inspector General

Troy M. Meyer, Deputy Inspector General for Overseas Contingency Operations, U.S. Department of Defense, Office of the Inspector General

Njema Frazier, Associate Technical Director—Nuclear Weapons Program, Defense Nuclear Safety Facilities Board

Omar Lopez-Santiago, Associate Technical Director—Nuclear Materials Processing and Stabilization, Defense Nuclear Safety Facilities Board

James Biggins, Deputy Executive Director for Risk and Strategy, Defense Nuclear Safety Facilities Board

Johnathan Plaue, Technical Director, Defense Nuclear Safety Facilities Board

Katherine Herrera, Deputy Executive Director of Operations, Defense Nuclear Safety Facilities Board

Patricia Lee, Board Member, Defense Nuclear Safety Facilities Board

Authority: 5 U.S.C. 4314.

Dated: November 4, 2025.
Mary Buhler,
Executive Director of Operations.

[FR Doc. 2025-19830 Filed 11-7-25; 8:45 am]

BILLING CODE 3670-01-P